DEPARTMENT OF HOUSING AND URBAN DEVELOPMENT

[Docket No. FR-4800-C-02]

Super Notice of Funding Availability (SuperNOFA) for HUD's Discretionary Programs for Fiscal Year 2003; Technical Correction

AGENCY: Office of the Secretary, HUD.

ACTION: Super Notice of Funding Availability (SuperNOFA) for HUD Discretionary Programs; technical correction.

SUMMARY: On April 25, 2003, HUD published its Fiscal Year 2003 Super Notice of Funding Availability (SuperNOFA) for HUD's Discretionary Programs. This document makes certain technical corrections with respect to the section 202 Supportive Housing for the Elderly Program and the section 811 Supportive Housing for Persons with Disabilities Program.

DATES: The application due dates of June 13, 2003, for both programs, remains unchanged from the application due dates as published in the Federal Register on April 25, 2003.

FOR FURTHER INFORMATION CONTACT: Willie Spearmon, Director, Office of Housing Assistance and Grant Administration, Room 6134, Department of Housing and Urban Development, 451 Seventh Street, SW., Washington, DC 20410, (202) 708-3000 (this is not a toll-free number). Speech-or hearing-impaired individuals may call the toll-free Federal Information Relay Service TTY at (800) 877-8399.

SUPPLEMENTARY INFORMATION: On April 25, 2003 (68 FR 21001), HUD published its Fiscal Year (FY) 2003 Super Notice of Funding Availability (SuperNOFA) for HUD's Discretionary Programs. The FY 2003 SuperNOFA announced approximately $2.3 billion in HUD program funds covering 43 funding opportunities within programs operated and administered by HUD offices.

This notice published in today's Federal Register makes certain corrections and clarifications to the FY 2003 funding announcements for the section 202 Supportive Housing for the Elderly Program and the section 811 Supportive Housing for Persons with Disabilities Program.

Section 811 Supportive Housing for Persons With Disabilities

This notice amends the FY 2003 section 811 Allocations Chart because, subsequent to the April 25, 2003, publication, it was determined that the chart required modification. (See pages 21941 through 21943). To ensure fairness to applicants that have already submitted an application and consistent with the requirements of section IV(B) of the program section of this NOFA, HUD will reduce the number of units requested to the revised number of units allocated as detailed in this correction, provided that the number originally requested did not exceed the number of units allocated in the April 25, 2003, publication.

In addition, the NOFA contained an incorrect amount under “Amount Allocated.” The amount is corrected in this notice. This notice also clarifies in Rating Factor 3 that the site must also be in compliance with the site and neighborhood standards in 24 CFR 891.320. Finally, in Appendix A, in the description of what is required for an application to earn two bonus points, HUD is removing the words “high performing” from the description of a Federally designated RC/EZ/EC community because such a community does not have to be high performing for a 202 or 811 application to receive the bonus points if it is proposing a site located in an RC/EZ/EC community.

Finally, the NOFA inadvertently excluded Exhibit 4(d)(ix) Exception to project size limit in the list of deficiencies that will be considered curable.

Section 202 Supportive Housing for the Elderly

In section II “Amount Allocated,” HUD amends the first data element taken from the 2000 Census to determine the section 202 allocation formula for FY 2003 to make it clear that the data element includes those elderly renter households of all sizes (householder age 65 and older) who pay more than 30 percent of their incomes for gross rent. (See page 21924.) Accordingly, in the Super Notice of Funding Availability (SuperNOFA) for HUD's Discretionary Programs in Fiscal Year 2003 (Docket No. FR-4800-N-01) in the issue of Friday, April 25, 2003, the following corrections are made:

1. Section 811 Supportive Housing for Persons with Disabilities Notice of Funding Availability which begins at 68 FR 21937:

On page 21939, in the third column, the first sentence under “II. Amount Allocated” is amended to read as follows: “For FY 2003, $116,760,434 for capital advances is available for the section 811 Program of Supportive Housing for Persons with Disabilities.”

On page 21941—21943, a revised Fiscal Year 2003 section 811 Allocations Chart is substituted for the chart published on April 25, 2003, as follows:

BILLING CODE 4210-27-P

BILLING CODE 4210-27-C

On page 21947, in the middle column, under section V. “Application Selection Process,” in the list of Exhibits, after (4)(d)(viii) “Seek alternate site,” the list is corrected by inserting the following: “(4)(d)(ix) Exception to project size limit.”

On page 21949, in the middle column, paragraph (a)(i) under Rating Factor 3 is amended to read as follows: “(a)(i) (10 points) Site Approvability—The proximity or accessibility of the site to shopping, medical facilities, transportation, places of worship, recreational facilities, places of employment, and other necessary services to the intended tenants; adequacy of utilities and streets, and freedom of the site from adverse environmental conditions (based on site visit for site control projects only); and compliance with site and neighborhood standards in 24 CFR 891.125(a), (d) and (e) and 24 CFR 891.320. Sites where amenities are accessible other than by project residence or private vehicle will be rated more favorably.”

On page 21968, the description of what is required for a section 202 or 811 application to earn two bonus points is amended to read as follows:

Bonus Points (2 Bonus Pts)

(Exhibit References: Exhibits 1 and 8(h))

“Location of proposed site in a Federally designated RC/EZ/EC community that will serve residents of the RC/EZ/EC and is consistent with the strategic plan of the RC/EZ/EC.”

2. Section 202 Supportive Housing for the Elderly Program Notice of Funding Availability, which begins at 68 FR 21921:

On page 21924, in the first column, HUD amends the first full paragraph to read as follows: “The allocation formula used for section 202 reflects the “relevant characteristics of prospective program participants,” as specified in 24 CFR 791.402(a). The FY 2003 formula consists of two data elements from the 2000 Census: (1) number of elderly renter households of all sizes (householder age 65 and older) paying more than 30 percent of their incomes for gross rent and (2) number of elderly households (householder age 60 and older) living alone with incomes below the poverty level.”

Dated: May 16, 2003.
Sean G. Cassidy,
General Deputy Assistant Secretary for Housing.

[FR Doc. 03-13196 Filed 5-27-03; 8:45 am]

BILLING CODE 4210-27-P